DEPARTMENT OF THE INTERIOR

National Park Service

Notice of Intent To Prepare an Environmental Impact Statement for the General Management Plan/Wilderness Study, Sleeping Bear Dunes National Lakeshore

AGENCY: National Park Service, Department of the Interior.

SUMMARY: Pursuant to the National Environmental Policy Act of 1969, 42 U.S.C. 4332 (2)(C), and the Wilderness Act of 1964, 16 U.S.C. 1131 et seq., the National Park Service (NPS) is preparing an environmental impact statement (EIS) for a general management plan/wilderness study (GMP/WS) for Sleeping Bear Dunes National Lakeshore, Michigan. The EIS will be approved by the Regional Director, Midwest Region. This planning effort is a new start, not a restart of the planning effort that ended in 2002. With the publication of this notice of intent, the earlier planning effort has been terminated.

The GMP will establish the overall direction for the park, setting broad management goals for managing the area over the next 15 to 20 years. The plan will prescribe desired resource conditions and visitor experiences that are to be achieved and maintained throughout the park based on such factors as the park's purpose, significance, special mandates, the body of laws and policies directing park management, resource analysis, and the range of public expectations and concerns. The plan also will outline the kinds of resource management activities, visitor activities, and developments that would be appropriate in the park in the future. The wilderness study will evaluate portions of Sleeping Bear Dunes National Lakeshore (Lakeshore) for possible designation as wilderness. The study will be included as a part of the general management plan.

A range of reasonable alternatives for managing the Lakeshore will be developed through this planning process and will include, at a minimum, a no-action and a preferred alternative. Major issues the plan will address include access to the Lakeshore, wilderness, management of areas new to the Lakeshore since the current 1979 general management plan, changes in visitor use patterns, adequacy and sustainability of existing visitor facilities and park operations, and management of natural and cultural resources. The environmental impact statement will evaluate the potential environmental impacts of the alternative management approaches and the possible designation of wilderness within the Lakeshore.

As the first phase of the planning process, the NPS is beginning to scope the issues to be addressed in the GMP/WS/EIS. All interested persons, organizations, and agencies are encouraged to submit comments and suggestions on issues and concerns that should be addressed in the GMP/WS/EIS, and the range of appropriate alternatives that should be examined.

DATES: The NPS is planning to begin public scoping with State and Federal Agencies; associated American Indian tribes; neighboring communities; county commissioners; local organizations, researchers and institutions; the congressional delegation; and other interested members of the public. In addition, the NPS will hold public scoping meetings regarding the GMP/WS/EIS. Specific dates, times, and locations will be announced through a variety of media, including on the Internet at the Planning, Environment, and Public Comment (PEPC) website (http://parkplanning.nps.gov/). In addition to attending the scoping meetings, people wishing to provide input to this initial phase of developing the GMP/WS/EIS may mail or email comments to the Superintendent at the addresses below.

Written comments concerning the scope of the GMP/WS/EIS will be accepted for 60 days from the publication of this notice.

ADDRESSES: General park information requests or requests to be added to the project mailing list should be directed to: Dusty Shultz, Superintendent, Sleeping Bear Dunes National Lakeshore, 9922 Front Street, Empire, Michigan 49630-9797, telephone 231-326-5134. E-mail: slbe_gmp@nps.gov.

FOR FURTHER INFORMATION CONTACT: Dusty Shultz, Superintendent, Sleeping Bear Dunes National Lakeshore, 9922 Front Street, Empire, Michigan 49630-9797, telephone 231-326-5134. E-mail: slbe_gmp@nps.gov. General information about Sleeping Bear Dunes National Lakeshore is available on the Internet at http://www.nps.gov/slbe.

SUPPLEMENTARY INFORMATION: If you wish to comment on any issues associated with the plan, you may submit your comments by several methods. You may mail comments to Sleeping Bear Dunes National Lakeshore, 9922 Front Street, Empire, Michigan 49630-9797. You may also comment via the Internet at slbe_gmp@nps.gov. Finally, you may hand-deliver comments to the Lakeshore at 9922 Front Street, Empire, Michigan.

Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: November 29, 2005.
Ernest Quintana,
Regional Director, Midwest Region.

1

[FR Doc. E5-7888 Filed 12-27-05; 8:45 am]

BILLING CODE 4312-52-P